OFFICE OF MANAGEMENT AND BUDGET

Designation of Database to the Do Not Pay Working System

AGENCY: Office of Management and Budget.

ACTION: Notice of designation.

The Payment Integrity Information Act of 2019 (PIIA) authorizes the Office of Management and Budget (OMB) to designate databases for inclusion in the U.S. Department of the Treasury (Treasury) Do Not Pay Working System (Do Not Pay). PIIA requires OMB to provide public notice and an opportunity for comment prior to designating databases. In fulfillment of this requirement, OMB published a Notice of Proposed Designation on June 24, 2025, for the U.S. Department of Veterans Affairs (VA) Benefits Enterprise Platform (BEP) database for use in the Do Not Pay Working System with the Public Assistance Reporting Information System (PARIS). OMB received two comments during the 15-day comment period for this notice. One of the comments addressed the substance of the proposal; the other did not. The comment addressing the substance of the proposal included concerns about the level of transparency of related privacy and data stewardship practices.

Considering privacy risks is part of the database designation process, and OMB provided information about these considerations in the notice of proposed designation. In addition to discussing the privacy risk assessment conducted by Fiscal Service, the section of the notice on “Privacy restrictions and risks associated with specific data” provided information about the data involved; the roles of each involved entity; notice and opportunity to respond if a State Public Assistance Agency intends to reduce, suspend, terminate, or deny benefits as a result of information provided by Fiscal Service; and efforts for data minimization. The section of the notice under the heading “Do Not Pay Working System Privacy, Security, and Legal Implications” discusses privacy-related measures that Treasury reports apply to Do Not Pay, such as rules of behavior, dedicated resources for a privacy program, internal controls, a data usage governance process, security-related risk mitigation measures, and identity management safeguards. Finally, the section of the notice under the heading “Statutory or other limitations on the use and sharing of specific data” addresses the Privacy Act of 1974, a matching agreement, and a memorandum of understanding, which impose certain limitations on the use and sharing of the data. Additional information about Treasury's privacy and civil liberties impact assessment for Do Not Pay is available on Treasury's website, on the Do Not Pay Privacy Program web page.

Given the information summarized above, OMB determined that the designation should proceed. Effective immediately, OMB designates the BEP database for use in Do Not Pay with PARIS. Through this final designation, BEP will only be available for use with PARIS and by State Public Assistance Agencies; it will not be available for use by other Do Not Pay users.

FOR FURTHER INFORMATION CONTACT: Office of Federal Financial Management, OMB (telephone: 202-395-3080; email: paymentintegrity@omb.eop.gov).

Russell T. Vought,
Director, Office of Management & Budget.

[FR Doc. 2025-18680 Filed 9-25-25; 8:45 am]

BILLING CODE 3110-01-P